INTERNATIONAL TRADE COMMISSION

[Investigation No. 337-TA-1174]

Certain Toner Cartridges, Components Thereof, and Systems Containing Same Commission Determination Not To Review an Initial Determination Amending the Complaint and Notice of Investigation, and Terminating the Investigation With Respect to Two Respondents Based on a Partial Withdrawal of the Complaint

AGENCY: U.S. International Trade Commission.

ACTION: Notice.

SUMMARY: Notice is hereby given that the U.S. International Trade Commission has determined not to review an initial determination (“ID”) (Order No. 32) issued by the presiding administrative law judge (“ALJ”) amending the complaint and notice of investigation, and terminating the investigation with respect to EPrinter Solution LLC of Pomona, California (“EPrinter”) and IFree E-Commerce Co. of Kowloon, Hong Kong (“IFree”) based on a partial withdrawal of the complaint.

FOR FURTHER INFORMATION CONTACT: Robert Needham, Office of the General Counsel, U.S. International Trade Commission, 500 E Street SW, Washington, DC 20436, telephone (202) 708-5468. Copies of non-confidential documents filed in connection with this investigation are or will be available for inspection during official business hours (8:45 a.m. to 5:15 p.m.) in the Office of the Secretary, U.S. International Trade Commission, 500 E Street SW, Washington, DC 20436, telephone (202) 205-2000. General information concerning the Commission may also be obtained by accessing its internet server (https://www.usitc.gov). The public record for this investigation may be viewed on the Commission's electronic docket (EDIS) at https://edis.usitc.gov. Hearing-impaired persons are advised that information on this matter can be obtained by contacting the Commission's TDD terminal on (202) 205-1810.

SUPPLEMENTARY INFORMATION: The Commission instituted this investigation on September 23, 2019, based on a complaint filed by Brother Industries, Ltd., of Nagoya, Japan; Brother International Corporation (U.S.A.) of Bridgewater, New Jersey; and Brother Industries (U.S.A.), Inc., of Bartlett, Tennessee (together, “Brother”). 84 FR 49762-63. The complaint, as supplemented, alleges violations of section 337 of the Tariff Act of 1930, as amended, 19 U.S.C. 1337, in the importation into the United States, the sale for importation, and the sale within the United States after importation of certain toner cartridges, components thereof, and systems containing same by reason of infringement of certain claims of U.S. Patent Nos. 9,568,856; 9,575,460; 9,632,456; 9,785,093; and 9,846,387. Id. The Commission's notice of investigation named 32 respondents, including EPrinter and IFree. Id. at 49763. The Office of Unfair Import Investigations (“OUII”) is participating in this investigation. Id.

On January 10, 2020, Brother filed a motion seeking leave to amend the complaint and notice of investigation to correct the name for one respondent and to correct the address for seven respondents. Brother also sought to terminate the investigation with respect to EPrinter and IFree based on a partial withdrawal of the complaint due to the inability to serve those parties with the complaint and notice of investigation. On January 22, 2020, OUII filed a response in support of the motion.

On January 28, 2020, the ALJ issued the subject ID, and ordered that the complaint and notice of investigation be amended as requested. The subject ID additionally terminated the investigation with respect to EPrinter and IFree based on the withdrawal of the complaint with respect to those entities. No petitions for review of the ID were received.

The Commission has determined not to review the subject ID.

The authority for the Commission's determination is contained in section 337 of the Tariff Act of 1930, as amended (19 U.S.C. 1337), and in part 210 of the Commission's Rules of Practice and Procedure (19 CFR part 210).

By order of the Commission.
Issued: February 25, 2020.
Lisa Barton,
Secretary to the Commission.

[FR Doc. 2020-04108 Filed 2-27-20; 8:45 am]

BILLING CODE 7020-02-P